DEPARTMENT OF THE TREASURY

Bureau of Alcohol, Tobacco and Firearms

27 CFR Part 9

[Notice No. 910]

RIN 1512-AA07

Realignment of the Alexander Valley and Dry Creek Valley Viticultural Areas (2000R-298P)

AGENCY: Bureau of Alcohol, Tobacco and Firearms (ATF), Department of the Treasury

ACTION: Notice of proposed rulemaking.

SUMMARY: The Bureau of Alcohol, Tobacco and Firearms (ATF) has received a petition proposing the revision and realignment of a boundary line between the Alexander Valley (27 CFR 9.53) and the Dry Creek Valley (27 CFR 9.64) viticultural areas, located in northern Sonoma County, California. The petition proposes realigning approximately 410 acres, of which 50 acres are planted with grapes, from the Dry Creek Valley area to the Alexander Valley area.

DATES: Written comments must be received by April 6, 2001.

ADDRESSES: Send written comments to: Chief, Regulations Division, Bureau of Alcohol, Tobacco and Firearms, PO Box 50221, Washington, DC 20091-0221 (Attn: Notice No. 910). Copies of the petition, the proposed regulations, the appropriate maps, and any written comments received will be available for public inspection during normal business hours at the ATF Reading Room, Office of Public Affairs and Disclosure, room 6480, 650 Massachusetts Avenue, NW, Washington, DC 20226. Submit e-mail comments to: nprm@atfhq.atf.treas.gov. E-mail comments must contain your name, mailing address, and e-mail address. They must also reference this notice number and be legible when printed on not more than three pages 8½″ × 11″ in size. We will treat e-mail as originals and we will not acknowledge receipt of e-mail. See Public Participation section of this notice for alternative means of commenting.

FOR FURTHER INFORMATION CONTACT: N.A. Sutton, Specialist, Regulations Division (San Francisco, CA), Bureau of Alcohol, Tobacco and Firearms, 221 Main Street, 11th Floor, San Francisco, CA (415) 744-7011.

SUPPLEMENTARY INFORMATION:

Background

With the issuance of T.D. ATF-187 on October 24, 1984, and T.D. ATF-129 on April 15, 1983, ATF formalized, respectively, the establishment of the Alexander Valley and Dry Creek Valley viticultural areas in Sonoma County, CA. The Alexander Valley viticultural area, T.D.-187, has been amended by T.D. ATF-233, August 26, 1986, T.D. ATF-272, May 13, 1988, and T.D. ATF-300, August 9, 1990.

Petition

The Bureau of Alcohol, Tobacco and Firearms (ATF) has received a petition from E. & J. Gallo Winery proposing the revision and realignment of a congruent boundary line between the Alexander Valley and the Dry Creek Valley viticultural areas, located in northern Sonoma County, California. The petition proposes realigning approximately 410 acres from the Dry Creek Valley area to the Alexander Valley area. The original petitions incorporated U.S.G.S. mapping section lines to define the boundary in this area. The petitioner uses geographic and climatic features to define the proposed line between these two areas.

Proposed Amendment to Boundaries

The petitioner believes that a small section of the boundary between the established Alexander Valley viticultural area, 27 CFR 9.53, and Dry Creek Valley viticultural area, 27 CFR 9.64, should be modified. The petition states this boundary portion currently ignores distinctive geographic features, climatic differences and divides several vineyards.

The original boundary line in sections 4 and 5 of T.10 N., R.10 W. of the U.S.G.S. map, Geyserville Quadrangle of 1955, was defined primarily by the mapping section lines. According to the petitioner, at the time this boundary line was petitioned and approved, in 1983 for Dry Creek Valley and 1984 for Alexander Valley, there were no vineyards along this boundary section.

The petitioner provides a U.S.G.S. topographic map as evidence of a significant ridgeline along the proposed boundary line. This ridgeline is a watershed dividing point between the Dry Creek Valley and Alexander Valley viticultural areas. Currently both the Dutcher Creek and Gill Creek watersheds are in the Dry Creek Valley area but drain into different viticultural areas. The Gill Creek watershed, to the east of the ridgeline, drains east and crosses the boundary line into the Alexander Valley area. The Dutcher Creek Planning Watershed, to the west of the ridgeline, drains into Dry Creek, staying in the Dry Creek Valley area. The proposed realignment would put the Gill Creek watershed into the Alexander Valley area, where it drains, and would keep the Dutcher Creek watershed within the Dry Creek Valley area.

The petitioner has provided a chart of growing degree days for five vineyards in the Dry Creek Valley and Alexander Valley areas. This chart indicates the Dry Creek Valley area is generally cooler than sites in the Alexander Valley area. The climate of the proposed realignment area more closely reflects the warmer Alexander Valley than the cooler Dry Creek Valley.

Proposed Boundary Realignment

The Alexander Valley and Dry Creek Valley viticultural areas are located in northern Sonoma County, California. The proposed realignment involves changing 410 acres, of which 50 acres are planted with grapes, from the Dry Creek Valley to the Alexander Valley viticultural area designation. The USGS map used for the proposed boundary realignment of the Alexander Valley and Dry Creek Valley areas is the Geyserville Quadrangle, California—Sonoma Co., 7.5 Minute Series, edition of 1955.

Public Participation—Written Comments

ATF requests comments from all interested persons. Comments received on or before the closing date will be carefully considered. Comments received after that date will be given the same consideration if it is practical to do so. However, assurance of consideration can only be given to comments received on or before the closing date.

ATF will not recognize any submitted material as confidential and comments may be disclosed to the public. Any material that the commenter considers to be confidential or inappropriate for disclosure to the public should not be included in the comments. The name of the person submitting a comment is not exempt from disclosure.

Comments may be submitted by facsimile transmission to (202) 927-8602, provided the comments: (1) Are legible; (2) are 8 ½″ × 11″ in size, (3) contain a written signature, and (4) are three pages or less in length. This limitation is necessary to assure reasonable access to the equipment. Comments sent by FAX in excess of three pages will not be accepted. Receipt of FAX transmittals will not be acknowledged. Facsimile transmitted comments will be treated as originals.

Any person who desires an opportunity to comment orally at a public hearing on the proposed regulation should submit his or her request, in writing, to the Director within the 60-day comment period. The Director, however, reserves the right to determine, in light of all circumstances, whether a public hearing will be held.

Paperwork Reduction Act

The provisions of the Paperwork Reduction Act of 1995, 44 U.S.C. Chapter 35, and its implementing regulations, 5 CFR part 1320, do not apply to this notice because no requirement to collect information is proposed.

Regulatory Flexibility Act

It is hereby certified that this proposed regulation will not have a significant impact on a substantial number of small entities. The establishment of a viticultural area is neither an endorsement nor approval by ATF of the quality of wine produced in the area, but rather an identification of an area that is distinct from surrounding areas. ATF believes that the establishment of viticultural areas merely allows wineries to more accurately describe the origin of their wines to consumers, and helps consumers identify the wines they purchase. Thus, any benefit derived from the use of a viticultural area name is the result of the proprietor's own efforts and consumer acceptance of wines from that area.

No new requirements are proposed. Accordingly, a regulatory flexibility analysis is not required.

Executive Order 12866

It has been determined that this proposed regulation is not a significant regulatory action as defined by Executive Order 12866. Accordingly, this proposal is not subject to the analysis required by this Executive Order.

Drafting Information

The principal author of this document is N. A. Sutton, Regulations Division (San Francisco), Bureau of Alcohol, Tobacco, and Firearms.

List of Subjects in 27 CFR Part 9

Administrative practices and procedures, Consumer protection, Viticultural areas, and Wine

Authority and Issuance

Title 27, Code of Federal Regulations, part 9, American Viticultural Areas, is proposed to be amended as follows:

PART 9—AMERICAN VITICULTURAL AREAS

Paragraph 1. The authority citation for Part 9 continues to read as follows:

Authority: 27 U.S.C. 205.

Par. 2. Section 9.53 is amended by revising paragraph (c)(6), removing paragraph (c)(7), and redesignating paragraphs (c)(8) through (c)(44) as (c)(7) through (c)(43) to read as follows:

§ 9.53 Alexander Valley

* * * * *

(a) Boundaries. * * *

(6) Then southeasterly in a straight line approximately 11,000 feet (closely following the ridge line) to the northwest corner of Section 10, T. 10 N., R.10 W. on the Geyserville Quadrangle map;

* * * * *

Par. 3. Section 9.64 is amended by revising paragraphs (c) introductory text and (c)(1) to read as follows:

§ 9.64 Dry Creek Valley

* * * * *

(c) Boundaries. The Dry Creek Valley viticultural area is located in north central Sonoma County, California. From the beginning point lying at the intersection of latitude line 38 degrees 45 minutes and the northwest corner of Section 5, T. 10 N., R. 10 W. on the “Geyserville Quadrangle” map, the boundary runs—

(1) Southeasterly in a straight line approximately 11,000 feet (closely following the ridge line) to the northeast corner of Section 9, T. 10 N., R. 10 W.;

* * * * *

Signed: January 29, 2001.
Bradley A. Buckles,
Director.

[FR Doc. 01-2962 Filed 2-2-01; 8:45 am]

BILLING CODE 4810-31-P